DEPARTMENT OF THE INTERIOR

Bureau of Land Management

[ID-330-1430-DSG-07-0002; IDI-34902]

Notice of Realty Action; Noncompetitive Lease of Public Land, Custer and Lemhi Counties, ID

AGENCY: Bureau of Land Management, U.S. Department of the Interior.

ACTION: Notice of realty action.

SUMMARY: The Bureau of Land Management (BLM) has examined and determined that two parcels of public land comprising 9.6 acres, more or less, located in Custer and Lemhi Counties, Idaho are suitable for a renewable, direct (non-competitive), 20-year agricultural use lease to The Nature Conservancy (TNC) pursuant to Section 302 (b) of The Federal Land Policy Management Act of 1976 (43 U.S.C. 1732 (b)), and the implementing regulations at 43 CFR part 2920, as amended. This action will resolve an historic encroachment occurring on public lands. The encroachment dating back to on or before 1976 was originally attributed to parties from whom TNC purchased property (adjacent to the subject parcels) in 2003. Rent for the use was determined by Department of the Interior appraisal to be BLM minimum annual lease fee of $250.00. Rent may be re-appraised annually, or at an interval not to exceed every 5 years to remain consistent with market trends.

DATES: Interested parties may submit comments to the BLM Challis Field Office Manager, at the below address. Comments must be received by not later than September 24, 2007. Only written comments will be accepted.

ADDRESSES: Address all written comments concerning this Notice to David Rosenkrance, BLM Challis Field Manager, 801 Blue Mountain Road, Challis, Idaho 83226-9304. Detailed information concerning this action, including but not limited to documentation related to compliance with applicable environmental and cultural resource laws, is available for review at the BLM Challis Field Office.

FOR FURTHER INFORMATION CONTACT: Tim Vanek, Realty Specialist at the above address or call (208) 879-6218.

SUPPLEMENTARY INFORMATION: The following described public land in Custer and Lemhi Counties, Idaho has been determined to be suitable for lease for the purpose of agricultural harvest (alfalfa hay). The BLM has determined that resource values will not be affected by the leasing of this parcel of public land. The proposed action complies with the BLM Challis Resource Management Plan (RMP) (1999). Compliance can be found under: Decision Land Tenure and Access under Goal 4 (Eliminate unauthorized use of public lands). As provided in 43 CFR 2920.5-4(b), land use authorizations may be offered on a negotiated, non-competitive basis, when, in the judgment of the authorized officer, equities, such as prior use of the lands, exist; if no competitive interest exists; or, where competitive bidding would represent unfair competitive and economic disadvantage to the originator of the unique land use concept that is compatible with the public interest. Based on past use of the subject parcels in the form of alfalfa hay cultivation, it is the authorized officer's discretion to offer the proposed agricultural on a non-competitive basis. Furthermore, it is the authorized officer's decision to offer the proposed agricultural lease to The Nature Conservancy on a non-competitive basis because an improvement consisting of a portion of an irrigation pivot owned by TNC exists on the public land in support of hay production. Because of these points, it is the opinion of the authorized officer no competitive interests exist, or competitive bidding would represent unfair competitive and economic disadvantage to TNC.

Therefore, the BLM will accept for processing, an application to be filed by The Nature Conservancy, or its duly qualified designee, for a non-competitive lease of the above described lands, to be used, occupied, and developed as stated above. The non-competitive bid shall not be for less than fair market value. That is to say, rental value which has been based on the fair market value of the land, is acceptable to the BLM after taking into account a current, independent appraisal of, among other considerations, the highest and best use of the lands. The BLM will estimate the costs of processing the lease application. Before the BLM begins to process the application, the lease applicant must pay the full amount of the estimated costs to the United States. If a lease is not granted, the lease applicant must pay to the United States, in addition to the estimated costs, the reasonable costs incurred by the BLM in processing the lease in excess of the estimated costs. Rent has been determined by the BLM. If and when a lease is granted, rent must be made paid annually or otherwise in advance, and periodically thereafter. If a lease is granted, the lessee shall reimburse the United States for all reasonable administrative and other costs incurred by the United States in processing the lease application and for monitoring construction, operation, maintenance and rehabilitation of the land and facilities authorized. The reimbursement of costs shall be in accordance with the provisions of 43 CFR 2920.6.

The lease application must include a reference to this notice and comply in all respects with the regulations pertaining to land use authorization applications at 43 CFR 2920.5-2 and 2920.5-5(b).

If authorized, the lease would be subject to provisions of the Federal Land Policy Management Act of 1976, and all applicable regulations of the Secretary of the Interior, including but not limited to 43 CFR part 2920, and to valid existing rights.

The parcels are described as follows:

Boise Meridian

T. 15 N., R. 21 E., sec. 22, (contained within) NE¼NW¼ and NW¼SE¼NW¼; sec. 28, (contained within) NW¼NE¼.

The areas described contain 9.6 acres, more or less, in Custer and Lemhi Counties.

The United States (Lessor) shall reserve all leasable, locatable, and salable mineral resources and deposits in the subject parcel together with the right to prospect for, mine, and remove the same under applicable laws and regulations. The lease, when issued, will contain a covenant requiring TNC assign in the name of the Lessor that amount of water applied to the subject parcel during the use of the subject parcel by TNC. In the event the application of water to the public land ceases, this assignment shall terminate and full water right shall revert back to the sole ownership of TNC.

Comments must be received by the BLM Challis Field Manager at the address stated above, on or before the date stated above. Before including your address, phone number, e-mail address, or other personal identifying information in your comment, be advised that your entire comment—including your personal identifying information—may be made publicly available at any time. While you can ask us in your comment to withhold from public review your personal identifying information, we cannot guarantee that we will be able to do so. Any adverse comments will be reviewed by the BLM Idaho Falls District Manager, who may sustain, vacate or modify this realty action. In the absence of any objections, or adverse comments, this proposed realty action will become the final determination of the Department of the Interior.

(Authority: 43 CFR 2920.4)

Joe Kraayenbrink,
Idaho Falls District Manager.

[FR Doc. E7-15358 Filed 8-7-07; 8:45 am]

BILLING CODE 4310-GG-P